DEPARTMENT OF THE INTERIOR

National Park Service

[NPS-WASO-HAFE-NPS0028332; PPWOWMADL3, PPMPSAS1Y.TD0000 (200); OMB Control Number 1024-0284]

Agency Information Collection Activities; Submission to the Office of Management and Budget for Review and Approval; National Park Service Common Learning Portal

AGENCY: National Park Service, Interior.

ACTION: Notice of information collection; request for comment.

SUMMARY: In accordance with the Paperwork Reduction Act of 1995, (PRA, 44 U.S.C. 3501 et seq.), we, the National Park Service (NPS) are proposing to renew an information collection.

DATES: Interested persons are invited to submit comments on or before April 13, 2020.

ADDRESSES: Send written comments on this information collection request (ICR) to the Office of Management and Budget's Desk Officer for the Department of the Interior by email at OIRA_Submission@omb.eop.gov; or via facsimile to (202) 395-5806. Please provide a copy of your comments to Phadrea Ponds, Acting NPS Information Collection Clearance Officer, 1201 Oakridge Drive, Fort Collins, CO 80525; or by email to phadrea_ponds@nps.gov. Please reference OMB Control Number 1024-0284 in the subject line of your comments.

FOR FURTHER INFORMATION CONTACT: To request additional information about this ICR, contact Ryan Jennings, by email at ryan_jennings@nps.gov, or by telephone at 304-535-5057. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 19, 2020 (85 FR 1180). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS is authorized by 54 U.S.C. 101321, Service Employee Training and 54 U.S.C. 101322, Management Development and Training to maintain the Common Learning Portal (CLP). This online training platform is provided to increase communication within the NPS education community and to promote the visibility of training opportunities available to NPS employees. The CLP serves as a common platform for advertising national, regional, and park specific training events to NPS employees. The CLP also establishes communities of practice using interest groups and forums in order to increase engagement throughout the NPS training community. Users may visit the CLP to learn about upcoming training events without creating a user account. However, to participate in community forum discussions, users must to provide the following information to register and create an account:

• Name

• Email address

• Username

Once registered, the user will have the option to provide additional information to include:

• Photo

• Title, location, expertise

• Duties, and

• Additional personal information such as hobbies or activities.

To store the information collected, this system utilizes the following SORN: DOI-16, Learning Management System—October 9, 2018, 83 FR 50682. All personal information, with the exception of name and email address, are optional. An account is not required for anyone interested in visiting the CLP to learn about upcoming training events.

Title of Collection: National Park Service Common Learning Portal.

OMB Control Number: 1024-0284.

Form Number: None.

Type of Review: Extension of a currently approved collection.

Respondents/Affected Public: Individuals (non-federal employees).

Total Estimated Number of Annual Respondents: 250.

Total Estimated Number of Annual Responses: 250.

Estimated Completion Time per Response: 5 minutes.

Total Estimated Number of Annual Burden Hours: 21.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2020-05062 Filed 3-11-20; 8:45 am]

BILLING CODE 4312-52-P